DEPARTMENT OF THE INTERIOR

Bureau of Land Management

[LLORS04000.L63320000.FV0000.241A.00 HAG 9-0043]

Notice of Intent To Collect Fees on Public Land in Marion County, OR Under the Federal Lands Recreation Enhancement Act

AGENCY: Bureau of Land Management, Interior.

ACTION: Notice of Intent.

SUMMARY: Pursuant to applicable provisions of the Federal Lands Recreation Enhancement Act (REA), 16 U.S.C. 6801 et seq., the Bureau of Land Management's (BLM) Salem District Office is proposing to collect day-use fees beginning in the summer of 2010 at the Canyon Creek Recreation Site on the Little North Santiam River, in Marion County, Oregon (Township 9 S, Range 3 E, section 7).

DATES: The public is encouraged to participate during the public comment period that will expire 30 days after publication of this notice. Following 6 months after publication of this notice, the BLM Salem District Office will initiate fee collection for day-use at Canyon Creek Recreation Site, unless the BLM publishes a Federal Register notice to the contrary.

ADDRESSES: Mail: District Manager, Salem District Office, 1717 Fabry Road SE., Salem, Oregon 97306.

FOR FURTHER INFORMATION CONTACT: Aaron G. Horton, District Manager Salem District Office, 1717 Fabry Road, SE., Salem, Oregon 97306. (503) 375-5643.

SUPPLEMENTARY INFORMATION: Under section 3(g) of the REA, the Canyon Creek Recreation Site qualifies as a site wherein visitors can be charged a “Standard Amenity Recreation Fee.” Visitors wishing to use the day-use area the BLM has developed at Canyon Creek Recreation Site are required to purchase a recreation use permit as described at 43 CFR part 2930. Pursuant to the REA and implementing regulations at 43 CFR subpart 2933, fees may be charged for day-use facilities, overnight camping, and group-use reservations. Specific visitor fees are identified in the Canyon Creek Recreation Site Business Plan which is available on the BLM's Salem District Web site and at the Salem District Office. Fees must be paid at the self-service pay station located at the site. People holding any one of the America The Beautiful-The National Parks and Federal Recreational Lands-Passes (i.e., Interagency Passes) or Golden Passports may use these passes in lieu of the requirement to purchase a recreation use permit, providing those passes are visible from the windshield or the information contained on the alternate pass is written on a recreation use permit envelope stub and the pass is available upon request for verification of payment.

The Canyon Creek Recreation Site is a developed 21-unit day-use site located along the Little North Santiam River on the North Fork Road. The site is about 34 miles southeast of Salem, Oregon, and is accessible via Interstate I-5, Highway 22, and the North Fork Road. The BLM is committed to providing and receiving fair value for the use of developed recreation facilities and services in a manner that meets public use demands, provides quality experiences, and protects important resources. The BLM's policy is to collect fees at all specialized recreation sites and at all locations where the BLM provides facilities, equipment, or services, at Federal expense, in connection with outdoor use. In an effort to meet increasing demand for services and maintenance of developed facilities, the BLM will implement a day-use fee for the Canyon Creek Recreation Site. Day-use fees collected at the Canyon Creek Recreation Site will help ensure funding for the maintenance of existing facilities, and providing recreational opportunities, an on-site staffing presence, and resource protection. Future adjustments in the fee amount will be made in accordance with the Canyon Creek Recreation Site Business Plan, consultation with the RRAC, and through public notice and comment.

In December 2004, the REA was signed into law. The REA provides authority for the Secretaries of the Interior and Agriculture to establish, modify, charge, and collect recreation fees for use of some Federal recreation lands and waters. The REA contains specific provisions addressing public involvement in the establishment of recreation fees, including a requirement that RRACs have the opportunity to make recommendations regarding establishment of such fees. The REA also directs the Secretaries of the Interior and Agriculture to publish advance notice in the Federal Register whenever new recreation fee areas are established under their respective jurisdictions. The BLM has notified and involved the public at each stage of the planning process, including this Notice of Intent to Collect Fees and public notices during the summer of 2009. The RRAC reviewed the proposal to charge a fee at the Canyon Creek Recreation Site and recommended day-use fees be charged at Canyon Creek Recreation Site. Copies of the Business Plan are available at the Salem District Office, 1717 Fabry Road SE., Salem, Oregon 97306 and the BLM Oregon/Washington State Office, 333 SW 1st Avenue Portland, Oregon 97204.

The BLM welcomes public comments on this proposal to collect fees at Canyon Creek Recreation Site. Before including your address, phone number, e-mail address, or other personal identifying information in your comment, be advised that your entire comment—including your personal identifying information—may be made publicly available at any time. While you can ask us in your comment to withhold your personal indentifying information from public review, we cannot guarantee that we will be able to do so.

Authority: 16 U.S.C. 6803(b).

Aaron G. Horton,
District Manager, Salem District Office.

[FR Doc. E9-30517 Filed 12-22-09; 8:45 am]

BILLING CODE 4310-33-P